FEDERAL ELECTION COMMISSION

Sunshine Act Meetings

AGENCY: Federal Election Commission.

DATE AND TIME: Thursday, July 25, 2013 at 10:00 a.m.

PLACE: 999 E Street NW., Washington, DC (Ninth Floor)

STATUS: This meeting will be open to the public.

ITEMS TO BE DISCUSSED: Correction and Approval of Minutes for June 27 and July 11, 2013;

Draft Advisory Opinion 2013-04: Democratic Governors Association and Jobs & Opportunity;

Draft Advisory Opinion 2013-05: Representative Elton Gallegly;

Draft Advisory Opinion 2013-06: Democratic Senatorial Campaign Committee;

Draft Advisory Opinion 2013-07: Dan Winslow for US Senate Committee;

OGC Enforcement Manual;

Management and Administrative Matters.

Individuals who plan to attend and require special assistance, such as sign language interpretation or other reasonable accommodations, should contact Shawn Woodhead Werth, Secretary and Clerk, at (202)694-1040, at least 72 hours prior to the meeting date.

PERSON TO CONTACT FOR INFORMATION: Judith Ingram, Press Officer, Telephone: (202) 694-1220.

Shawn Woodhead Werth,
Secretary and Clerk of the Commission.

[FR Doc. 2013-17733 Filed 7-19-13; 11:15 am]

BILLING CODE 6715-01-P